FEDERAL MARITIME COMMISSION

Ocean Transportation Intermediary License; Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 4456NF.

Name: Arrisco International, Inc.

Address: 1808 G Associates Lane, Charlotte, NC 28217.

Date Revoked: March 14 2002.

Reason: Failed to maintain valid bonds.

License Number: 2944F.

Name: Astral International Shipping Services, Inc.

Address: 2414 World Trade Center, New Orleans, LA 70130.

Date Revoked: March 3, 2002.

Reason: Failed to maintain valid bond.

License Number: 4455NF.

Name: Cargo Transport, Inc.

Address: 6700 Marginal Way, SW, Seattle, WA 98106.

Date Revoked: February 22, 2002.

Reason: Surrendered license voluntarily.

License Number: 12237N.

Name: Costa Rica Carriers, Inc.

Address: 8620 NW 70th Street, Miami, FL 33166.

Date Revoked: March 18, 2002.

Reason: Failed to maintain a valid bond.

License Number: 2467F.

Name: L. C. Forwarding International Company.

Address: 150 Marine Street, Lake Charles, LA 70601.

Date Revoked: March 31, 2002.

Reason: Surrendered license voluntarily.

License Number: 2689F.

Name : Raul Nunez dba Nunez Forwarding Company.

Address: 14655 Northwest Freeway, Suite 119, Houston, TX 77040.

Date Revoked: March 14, 2002.

Reason: Failed to maintain a valid bond.

License Number: 4257F.

Name: Road Runner International, Inc. dba International Delivery Systems.

Address: 1021 Stuyvesant Avenue, Union, NJ 07083.

Date Revoked: March 2, 2002.

Reason: Failed to maintain a valid bond.

License Number: 12426N.

Name: Windward Container Lines, Inc.

Address: 2630 NW 75th Avenue, Miami, FL 33122-1432.

Date Revoked: February 14, 2002.

Reason: Surrendered license voluntarily.

License Number: 17228N.

Name: YTN Corp.

Address: 122 N. Commonwealth Avenue, #311, Los Angeles, CA 90004.

Date Revoked: March 1, 2002.

Reason: Surrendered license voluntarily.

Sandra L. Kusumoto,
Director, Bureau of Consumer Complaints and Licensing.

[FR Doc. 02-8045 Filed 4-2-02; 8:45 am]

BILLING CODE 6730-01-P